DEPARTMENT OF TRANSPORTATION

Federal Aviation Administration

14 CFR Part 39

[Docket No. FAA-2024-0226; Project Identifier MCAI-2024-00069-R; Amendment 39-22674; AD 2024-02-55]

RIN 2120-AA64

Airworthiness Directives; Bell Textron Canada Limited Helicopters

AGENCY: Federal Aviation Administration (FAA), DOT.

ACTION: Final rule; request for comments.

SUMMARY: The FAA is adopting a new airworthiness directive (AD) for Bell Textron Canada Limited Model 505 helicopters. This AD was prompted by reports of cracked vertical stabilizer top end cap assemblies. This AD requires an initial and recurring inspections of the vertical stabilizer top end cap assembly and corrective action if a crack is found, as specified in a Transport Canada AD, which is incorporated by reference. The FAA previously sent this AD as an emergency AD to all known U.S. owners and operators of these helicopters. The FAA is issuing this AD to address the unsafe condition on these products.

DATES: This AD is effective March 14, 2024. Emergency AD 2024-02-55, issued on January 26, 2024, which contained the requirements of this amendment, was effective with actual notice.

The Director of the Federal Register approved the incorporation by reference of a certain publication listed in this AD as of March 14, 2024.

The FAA must receive comments on this AD by April 15, 2024.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-0226; or in person at Docket Operations between 9 a.m. and 5 p.m., Monday through Friday, except Federal holidays. The AD docket contains this final rule, any comments received, and other information. The address for Docket Operations is listed above.

Material Incorporated by Reference:

• For Transport Canada material identified in this final rule, contact Transport Canada, Transport Canada National Aircraft Certification, 159 Cleopatra Drive, Nepean, Ontario, K1A 0N5, CANADA; telephone 888-663-3639; email TC.AirworthinessDirectives-Consignesdenavigabilite.TC@tc.gc.ca; internet tc.canada.ca/en/aviation. You may find the Transport Canada material on the Transport Canada website at wwwapps.tc.gc.ca/Saf-Sec-Sur/2/cawis-swimn/ad_qs1.aspx.

• You may view this material at the FAA, Office of the Regional Counsel, Southwest Region, 10101 Hillwood Pkwy., Room 6N-321, Fort Worth, TX 76177. For information on the availability of this material at the FAA, call (817) 222-5110. It is also available at regulations.gov under Docket No. FAA-2024-0226.

Other Related Service Information: For Bell service information identified in this final rule, contact Bell Textron Canada Limited, 12,800 Rue de l'Avenir, Mirabel, Quebec J7J 1R4, Canada; telephone 1-450-437-2862 or 1-800-363-8023; fax 1-450-433-0272; email productsupport@bellflight.com; or at bellflight.com/support/contact-support. You may also view this service information at the FAA contact information under Material Incorporated by Reference above.

FOR FURTHER INFORMATION CONTACT: Dan McCully, Aviation Safety Engineer, FAA, 1600 Stewart Avenue, Suite 410, Westbury, NY 11590; phone (404) 474-5548; email william.mccully@faa.gov.

SUPPLEMENTARY INFORMATION:

Comments Invited

The FAA invites you to send any written data, views, or arguments about this final rule. Send your comments to an address listed under ADDRESSES. Include “Docket No. FAA-2024-0226; Project Identifier MCAI-2024-00069-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Dan McCully, Aviation Safety Engineer, FAA, 1600 Stewart Avenue, Suite 410, Westbury, NY 11590; phone (404) 474-5548; email william.mccully@faa.gov. Any commentary that the FAA receives that is not specifically designated as CBI will be placed in the public docket for this rulemaking.

Background

The FAA issued Emergency AD 2024-02-55, dated January 26, 2024 (the emergency AD), to address an unsafe condition on Bell Textron Canada Limited Model 505 helicopters. The FAA sent the emergency AD to all known U.S. owners and operators of these helicopters. The emergency AD requires, within 10 hours time-in-service (TIS) and thereafter at intervals not to exceed 25 hours TIS, a detailed visual inspection for a cracked vertical stabilizer top end assembly and replacing a cracked vertical stabilizer top end assembly before further flight.

The emergency AD was prompted by Transport Canada Emergency AD CF-2024-03, dated January 25, 2024 (Transport Canada AD CF-2024-03), issued by Transport Canada, which is the aviation authority for Canada, to correct an unsafe condition on Bell Textron Canada Limited Model 505 helicopters, serial numbers 65011 and subsequent. Transport Canada AD CF-2024-03 states that there have been multiple occurrences of the vertical stabilizer top end cap assembly being found cracked, with some cases including the departure of the navigation/very high frequency omni-directional range (VOR)/glide slope antenna and tuning weight from the helicopter during flight. Detailed investigation has identified that the stabilizer top end cap assembly was not designed for the full fatigue spectrum. Transport Canada AD CF-2024-03 further states that an investigation determined that if no corrective actions are implemented, there is the potential for the antenna and tuning weight to depart, which could impact and damage the tail rotor, resulting in the loss of directional control of the helicopter. Accordingly, Transport Canada AD CF-2024-03 mandates an initial and recurring inspections of the vertical stabilizer top end cap assembly, and corrective action if a crack is found. Transport Canada AD CF-2024-03 states that the corrective actions are interim actions until a permanent solution can be made available for the fleet.

You may examine Transport Canada AD CF-2024-03 in the AD docket at regulations.gov under Docket No. FAA-2024-0226.

The FAA is issuing this AD to address cracking in the vertical stabilizer top end cap assembly. This condition, if not addressed, could result in the antenna or tuning weight departing from the helicopter and impacting and damaging the tail rotor, resulting in the loss of directional control of the helicopter.

Related Service Information Under 1 CFR Part 51

Transport Canada AD CF-2024-03 requires, within 10 hours air time, accomplishing a one-time detailed visual inspection of the vertical stabilizer top end cap assembly for cracking and accomplishing corrective action if cracking is found. Thereafter at intervals not greater than 25 hours air time following the accomplishment of the 10-hour air time inspection or the corrective action, Transport Canada AD CF-2024-03 requires performing recurring detailed visual inspections of the vertical stabilizer top end cap assembly for cracking.

This material is reasonably available because the interested parties have access to it through their normal course of business or by the means identified in the ADDRESSES section.

Other Related Service Information

The FAA reviewed Bell Alert Service Bulletin 505-24-38, dated January 24, 2024, which specifies procedures for performing a one-time detailed inspection of the top end cap assembly for cracking, provides instructions for replacing a cracked top end cap assembly, and provides instructions for a performing a recurring detailed inspection of the top end cap assembly.

FAA's Determination

These helicopters have been approved by the aviation authority of another country and are approved for operation in the United States. Pursuant to the FAA's bilateral agreement with this State of Design Authority, it has notified the FAA of the unsafe condition described in its emergency AD referenced above. The FAA is issuing this AD after determining that the unsafe condition described previously is likely to exist or develop on other products of the same type design.

Requirements of This AD

This AD requires accomplishing the actions specified in Transport Canada AD CF-2024-03, described previously, as incorporated by reference, except for any differences identified as exceptions in the regulatory text of this AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, Transport Canada AD CF-2024-03 is incorporated by reference in this FAA AD. This AD, therefore, requires compliance with Transport Canada AD CF-2024-03 in its entirety through that incorporation, except for any differences identified as exceptions in the regulatory text of this AD. Using common terms that are the same as the heading of a particular section in Transport Canada AD CF-2024-03 does not mean that operators need comply only with that section. For example, where the AD requirement refers to “all required actions and compliance times,” compliance with this AD requirement is not limited to the sections titled “Compliance” and “Corrective Actions” in Transport Canada AD CF-2024-03. Service information referenced in Transport Canada AD CF-2024-03 for compliance will be available at regulations.gov under Docket No. FAA-2024-0226 after this final rule is published.

Interim Action

The FAA considers that this AD is an interim action. If final action is later identified, the FAA might consider further rulemaking then.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that required the immediate adoption of Emergency AD 2024-02-55, issued on January 26, 2024, to all known U.S. owners and operators of these helicopters. The FAA found that the risk to the flying public justified waiving notice and comment prior to adoption of this rule because cracking of the vertical stabilizer top end cap assembly could result in loss of the antenna and tuning weight during flight and damage to the tail rotor, which is critical for directional control of the helicopter. As the FAA also has no information pertaining to the quantity of cracked vertical stabilizer top end cap assemblies that may currently exist in the U.S. fleet or how quickly the condition may propagate to failure, the inspections required by this AD must be accomplished within 10 hours TIS followed by repetitive actions at intervals not to exceed 25 hours TIS, with corrective action required before further flight. These conditions still exist, therefore, notice and opportunity for prior public comment are impracticable and contrary to the public interest pursuant to 5 U.S.C. 553(b)(3)(B).

In addition, the FAA finds that good cause exists pursuant to 5 U.S.C. 553(d) for making this amendment effective in less than 30 days, for the same reasons the FAA found good cause to forego notice and comment.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 141 helicopters of U.S. Registry. Labor rates are estimated at $85 per work-hour. Based on these numbers, the FAA estimates the following costs to comply with this AD.

The initial vertical stabilizer top end assembly inspection takes approximately 2 work-hours with no parts cost for the inspection, for an initial cost of $170 per helicopter and $23,970 for the U.S. fleet.

The recurring vertical stabilizer top end assembly inspections take approximately 3 work-hours with no parts cost for the inspections. Based on these figures, the cost for each inspection is estimated at $255 per helicopter and $35,955 for the U.S. fleet, per inspection cycle.

If required, replacing a vertical stabilizer top end assembly will take approximately 1 work-hour with parts cost of approximately $125 for a vertical stabilizer top end assembly. Based on these figures, the cost to replace the vertical stabilizer top end assembly is estimated at $210.

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national Government and the States, or on the distribution of power and responsibilities among the various levels of government.

For the reasons discussed, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-02-55 Bell Textron Canada Limited: Amendment 39-22674; Docket No. FAA-2024-0226; Project Identifier MCAI-2024-00069-R.

(a) Effective Date

The FAA issued Emergency Airworthiness Directive (AD) 2024-02-55 on January 26, 2024, directly to affected owners and operators. As a result of such actual notice, that emergency AD was effective for those owners and operators on the date it was provided. This AD contains the same requirements as that emergency AD and, for those who did not receive actual notice, is effective on March 14, 2024.

(b) Affected ADs

None.

(c) Applicability

This AD applies to Bell Textron Canada Limited Model 505 helicopters, certificated in any category, as identified in Transport Canada Emergency AD CF-2024-03, dated January 25, 2024 (Transport Canada AD CF-2024-03).

(d) Subject

Joint Aircraft System Component (JASC) Code: 5532 Vertical stabilizer, plates/skin.

(e) Unsafe Condition

This AD was prompted by multiple occurrences of the vertical stabilizer top end cap assembly being found cracked, with some cases including the departure of the navigation/very high frequency omni-directional range (VOR)/glide slope antenna and tuning weight from the helicopter during flight. The FAA is issuing this AD to detect cracking on the vertical stabilizer top end cap assembly. The unsafe condition, if not addressed, could result in the antenna or tuning weight departing from the helicopter and impacting and damaging the tail rotor, resulting in the loss of directional control of the helicopter.

(f) Compliance

Comply with this AD within the compliance times specified, unless already done.

(g) Requirements

Except as specified in paragraph (h) of this AD: Comply with all required actions and compliance times specified in, and in accordance with, Transport Canada AD CF-2024-03.

(h) Exceptions to Transport Canada AD CF-2024-03

(1) Where Transport Canada AD CF-2024-03 refers to its effective date, this AD requires using the effective date of this AD.

(2) Where Transport Canada AD CF-2024-03 refers to “air time,” this AD requires replacing those words with “hours time-in-service.”

(i) Special Flight Permits

Special flight permits are prohibited.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD or email to: 9-AVS-AIR-730-AMOC@faa.gov. If mailing information, also submit information by email.

(2) Before using any approved AMOC, notify your appropriate principal inspector, or lacking a principal inspector, the manager of the local flight standards district office/certificate holding district office.

(k) Related Information

For more information about this AD, contact Dan McCully, Aviation Safety Engineer, FAA, 1600 Stewart Avenue, Suite 410, Westbury, NY 11590; phone (404) 474-5548; email william.mccully@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) Transport Canada Emergency AD CF-2024-03, dated January 25, 2024.

(ii) [Reserved]

(3) For Transport Canada Emergency AD CF-2024-03, contact Transport Canada National Aircraft Certification, 159 Cleopatra Drive, Nepean, Ontario, K1A 0N5, Canada; phone 888-663-3639; email TC.AirworthinessDirectives-Consignesdenavigabilite.TC@tc.gc.ca; internet tc.canada.ca/en/aviation. You may find the Transport Canada material on the Transport Canada website at wwwapps.tc.gc.ca/Saf-Sec-Sur/2/cawis-swimn/ad_qs1.aspx.

(4) You may view this service information at the FAA, Office of the Regional Counsel, Southwest Region, 10101 Hillwood Pkwy., Room 6N-321, Fort Worth, TX 76177. For information on the availability of this material at the FAA, call (817) 222-5110.

(5) You may view this material at the National Archives and Records Administration (NARA). For information on the availability of this material at NARA, visit www.archives.gov/federal-register/cfr/ibr-locationsoremailfr.inspection@nara.gov.

Issued on February 23, 2024.
Caitlin Locke,
Director, Compliance & Airworthiness Division, Aircraft Certification Service.

[FR Doc. 2024-04172 Filed 2-26-24; 11:15 am]

BILLING CODE 4910-13-P